OFFICE OF MANAGEMENT AND BUDGET

Revisions to OMB's Statistical Policy Directive No. 15: Standards for Maintaining, Collecting, and Presenting Federal Data on Race and Ethnicity

AGENCY: Office of Information and Regulatory Affairs, Office of Management and Budget, Executive Office of the President.

ACTION: Notice of decision.

SUMMARY: By this Notice, the Office of Management and Budget (OMB) is announcing revisions to Statistical Policy Directive No. 15: Standards for Maintaining, Collecting, and Presenting Federal Data on Race and Ethnicity (SPD 15). The revised SPD 15 is presented at the end of this Notice; it replaces and supersedes OMB's 1997 Revisions to the Standards for the Classification of Federal Data on Race and Ethnicity. OMB is taking this action to meet its responsibilities to develop and oversee the implementation of Government-wide principles, policies, standards, and guidelines concerning the development, presentation, and dissemination of statistical information. These revisions to SPD 15 are intended to result in more accurate and useful race and ethnicity data across the Federal government.

DATES: The provisions of these standards are effective March 28, 2024 for all new record keeping or reporting requirements that include racial or ethnic information. All existing record keeping or reporting requirements should be made consistent with these standards through a non-substantive change request to the Office of Information and Regulatory Affairs (OIRA), or at any time a collection of information is submitted to OIRA for approval of either a revision or extension under the Paperwork Reduction Act of 1995 (PRA), as soon as possible, but not later than March 28, 2029.

ADDRESSES: Please send correspondence about OMB's decisions to: Dr. Karin Orvis, U.S. Chief Statistician, Office of Information and Regulatory Affairs, Office of Management and Budget, 725 17th St. NW, Washington, DC 20506, email address: Statistical_Directives@omb.eop.gov.

Electronic Availability: This Federal Register Notice can be found along with supplemental materials, including the final report of the Working Group and its six annexes, on the Federal Register: https://www.federalregister.gov/, by searching for “OMB-2023-0001”. Additional background materials, including previous OMB standards and guidance related to the collection of race and ethnicity can be found at https://www.statspolicy.gov under “Policies” and on the Working Group's website: https://www.spd15revision.gov.

FOR FURTHER INFORMATION CONTACT: Bob Sivinski, Statistical and Science Policy, Office of Information and Regulatory Affairs, Office of Management and Budget, 725 17th St. NW, Washington, DC 20506; email address: Statistical_Directives@omb.eop.gov, phone number (202) 395-1205.

SUPPLEMENTARY INFORMATION:

A. Background

Overview of this Notice. Based on the recommendations of the Federal Interagency Technical Working Group on Race and Ethnicity Standards (Working Group), SPD 15 is revised to: collect data using a single combined race and ethnicity question, allowing multiple responses; add Middle Eastern or North African (MENA) as a minimum reporting category, separate and distinct from the White category; require the collection of more detail beyond the minimum race and ethnicity reporting categories, unless an agency requests and receives an exemption from OMB's Office of Information and Regulatory Affairs because the potential benefit of the detailed data would not justify the additional burden to the agency and the public or the additional risk to privacy or confidentiality; update terminology in SPD 15; and require agency Action Plans on Race and Ethnicity Data and timely compliance with this revision to SPD 15.

The Supplementary Information in this Notice provides background information on SPD 15 (Section A); a summary of the review process that began in the summer of 2022 (Section B); a synopsis of the major revisions to SPD 15, including discussion of the initial proposals of the Working Group, public input on the standards including responses to a January 2023 Federal Register Notice (FRN) ¹ that presented the initial proposals, the final recommendations from the Working Group to OMB, and OMB's decisions on revisions to SPD 15 (Section C); and areas for future research (Section D).

¹ 88 FR 5375 (Jan. 27, 2023), available at https://www.federalregister.gov/documents/2023/01/27/2023-01635/initial-proposals-for-updating-ombs-race-and-ethnicity-statistical-standards.

OMB's Statistical Policy Directives. To operate efficiently and effectively, the Nation relies on the flow of objective, credible statistics to support the decisions of individuals, households, governments, businesses, and other organizations. As part of its role as coordinator of the Federal statistical system under the Paperwork Reduction Act of 1995, OMB, through the Chief Statistician of the United States, must ensure the efficiency and effectiveness of the system as well as the integrity, objectivity, impartiality, utility, and confidentiality of information collected for statistical purposes.² This includes developing and overseeing the implementation of Government-wide principles, policies, standards, and guidelines concerning the development, presentation, and dissemination of statistical information.³ OMB maintains a set of statistical policy directives to implement these requirements, and periodically reviews these directives to ensure they continue to meet their intended purpose. These reviews are based on input from subject matter experts and relevant program staff across government, evidence generated by research and testing, and input from the public.

² 44 U.S.C. 3504(e)(1).

³ 44 U.S.C. 3504(e)(3).

History of SPD 15. OMB initially developed SPD 15 in 1977 in cooperation with other Federal agencies to provide consistent data on race and ethnicity throughout the Federal Government, including the decennial census, household surveys, and Federal administrative forms.⁴ Initial development of these data standards stemmed in large part from new Federal responsibilities to enforce civil rights laws.⁵ Since 1977, SPD 15 has been revised one time, resulting in an update in 1997.

⁴ U.S. Dep't of Com., Statistical Policy Handbook 37-38 (May 1978), available at https://www2.census.gov/about/ombraceethnicityitwg/1978-statistical-policy-handbook.pdf.

⁵ 62 FR 58782 (Oct. 20, 1997), available at https://www.govinfo.gov/content/pkg/FR-1997-10-30/pdf/97-28653.pdf.

The Goals of SPD 15. The goals of SPD 15 remain unchanged: to ensure the comparability of race and ethnicity across Federal datasets and to maximize the quality of these data by ensuring the format, language, and procedures for collecting the data are consistent.⁶ To achieve these goals, SPD 15 provides a minimum set of categories that all Federal agencies must use when collecting information on race and ethnicity, regardless of the collection mechanism, as well as additional guidance on the collection, compilation, and dissemination of these data.

⁶ See, e.g., id.; U.S. Dep't of Com., Statistical Policy Handbook 37-38 (May 1978), available at https://www2.census.gov/about/ombraceethnicityitwg/1978-statistical-policy-handbook.pdf.

Defining race and ethnicity. For purposes of SPD 15, the race and ethnicity categories set forth are sociopolitical constructs and are not an attempt to define race and ethnicity biologically or genetically.

Rescissions. Finally, this Notice rescinds the following OMB guidance: OMB Bulletin No. 00-02—Guidance on Aggregation and Allocation of Data on Race for Use in Civil Rights Monitoring and Enforcement (2000); ⁷ Provisional Guidance on the Implementation of the 1997 Standards for Federal Data on Race and Ethnicity (2000); ⁸ and Flexibilities and Best Practices for Implementing the Office of Managements and Budget's 1997 Standards for Maintaining, Collecting, and Presenting Federal Data on Race and Ethnicity (2022).⁹

⁷ OMB, Exec. Office of the President, OMB Bulletin No. 00-02—Guidance on Aggregation and Allocation of Data on Race for Use in Civil Rights Monitoring and Enforcement (Mar. 9, 2000), available at https://www.whitehouse.gov/wp-content/uploads/2017/11/bulletins_b00-02.pdf.

⁸ OMB, Exec. Office of the President, Provisional Guidance on the Implementation of the 1997 Standards for Data on Race and Ethnicity (Dec. 15, 2000), available at https://www.esd.whs.mil/Portals/54/Documents/DD/info_collect/files_public/Race%20%20Ethnicity%20Guidance.pdf?ver=2018-11-01-094407-913.

⁹ Flexibilities and Best Practices for Implementing the Office of Management and Budget's 1997 Standards for Maintaining, Collecting, and Presenting Federal Data on Race and Ethnicity (Statistical Policy Directive No. 15) (Jul. 2022), available at https://www.whitehouse.gov/wp-content/uploads/2022/07/Flexibilities-and-Best-Practices-Under-SPD-15.pdf.

B. Comprehensive Review Process for SPD 15

Since the 1997 revision to SPD 15, there have been large societal, political, economic, and demographic shifts in the United States, including increasing racial and ethnic diversity, a growing number of people who identify as more than one race or ethnicity, and changing immigration and migration patterns. Recognizing the critical need for revisions to SPD 15, OMB announced a formal review in June 2022 with the goal of updating SPD 15 to better reflect the diversity of the Nation.¹⁰ The process to review and revise SPD 15 included four major phases: (1) OMB established the Working Group; (2) the Working Group developed initial proposals and sought public input; (3) the Working Group developed final recommendations for revising SPD 15; and (4) OMB deliberated and developed the revisions presented in this Notice.

¹⁰ Karin Orvis, Reviewing and Revising Standards for Maintaining, Collecting, and Presenting Federal Data on Race and Ethnicity, The White House (June 15, 2022), available at https://www.whitehouse.gov/omb/briefing-room/2022/06/15/reviewing-and-revising-standards-for-maintaining-collecting-and-presenting-federal-data-on-race-and-ethnicity/.

Establishing the Federal Interagency Technical Working Group on Race and Ethnicity Standards. Consistent with OMB's established processes, the Working Group was composed of Federal staff with subject matter expertise in the collection and use of Federal race and ethnicity data. The 13 OMB-recognized principal statistical agencies,¹¹ the 24 agencies enumerated by the Chief Financial Officers Act (CFO Act),¹² and the U.S. Equal Employment Opportunity Commission (EEOC) were invited to nominate representatives to the Working Group through their Federal Statistical Officials.¹³ Of the invitees, 12 principal statistical agencies, 22 Chief Financial Officers Act agencies, and the EEOC all provided staff to participate in the Working Group. The Working Group was chaired and co-chaired by career staff members from OMB and the U.S. Census Bureau, respectively.

¹¹ A list of the 13 principal statistical agencies is available at https://statspolicy.gov.

¹² A list of the 24 Chief Financial Officers Act Agencies is available at https://www.cfo.gov/about-the-council/.

¹³ 5 U.S.C. 314.

OMB tasked the Working Group with developing a set of recommendations for improving the quality and usefulness of Federal race and ethnicity data with a focus on developing recommendations on topics including, but not limited to:

• whether the minimum reporting categories should be changed and how to best address detailed race and ethnicity groups in SPD 15;

• whether updates should be made to the question format, terminology, and wording of the questions, as well as the instructions for respondents and associated guidance; and

• whether guidance for the collection and reporting of these data can be improved, including in instances when self-identification is not possible.

The Working Group adopted a set of principles to govern their work (e.g., category changes should be based on sound research; all racial and ethnic categories should adhere to public law; operational feasibility should also be considered) consistent with processes used by the working groups for the original 1977 SPD 15 and the 1997 revision.¹⁴

¹⁴ Refer to the Working Group's final report on for additional details, available on the Federal Register, https://www.federalregister.gov/, by searching for “OMB-2023-0001”.

Developing Initial Proposals. The Working Group developed initial proposals for revising SPD 15 by examining existing evidence and building on the work of a previous interagency working group that reviewed SPD 15 from 2014 to 2018. The existing evidence included several large-scale, rigorous studies conducted by the Census Bureau.

The initial set of proposals developed by the Working Group included collecting race and ethnicity together with a single question; adding a MENA response category, separate from the White category; requiring the collection of more detailed data beyond the minimum categories as a default; and updating SPD 15's terminology, definitions, and question wording. The Working Group also developed a set of questions regarding various aspects of the proposals, implementation issues, and additional topics for public feedback. OMB published these preliminary proposals and questions in a January 2023 FRN ¹⁵ that provided the public an opportunity to submit comments from January 27 to April 27, 2023.

¹⁵ 88 FR 5375.

Developing Final Recommendations. To meet the goal of producing accurate and useful race and ethnicity data across the Federal Government, it is important to base SPD 15 on a solid portfolio of evidence that includes rigorous testing, input from the public on how individuals prefer to identify, and input from data providers and users.

In developing their initial and final recommendations, the Working Group relied heavily on research conducted by Federal agencies over the last decade, especially the U.S. Census Bureau's 2015 National Content Test (NCT).¹⁶ The NCT specifically tested the impact and effectiveness of using a combined question, adding a MENA category, and making various revisions to question wording and terminology. The NCT included a nationally representative sample of 1.2 million housing units across the United States, including Puerto Rico. Importantly, it also included a re-interview of approximately 75,000 cases, designed to generate better understanding of how respondents interpret the questions and prefer to identify. In addition to pre-existing research conducted over the last decade, several agencies represented on the Working Group collaborated to conduct supplementary qualitative and quantitative research. This additional research helped inform and improve the Working Group's final recommendations to OMB.

¹⁶ Kelly Mathews et al., U.S. Census Bureau, 2015 National Content Test Race and Ethnicity Analysis Report: A New Design for the 21st Century (Feb. 28, 2017), available at https://www.census.gov/programs-surveys/decennial-census/decade/2020/planning-management/plan/final-analysis/2015nct-race-ethnicity-analysis.html.

In recognition of the importance of public participation in the revision of SPD 15, obtaining input and feedback from the public played a key role in the development of the final recommendations. The Working Group and OMB used a variety of approaches to raise awareness and encourage input. Outreach efforts included White House blog posts and social media posts, the creation of a dedicated website for the review process (https://www.spd15revision.gov), interviews with news outlets, participation in professional conferences and workshops, and direct outreach to stakeholders using contact lists maintained by the agencies participating on the Working Group. In September 2022, the Working Group began conducting bi-monthly listening sessions with members of the public, which allowed organizations, advocacy groups, academics, and the general public to share their perspectives and recommendations regarding SPD 15.¹⁷ In March 2023, the Chief Statistician of the United States, joined by the chair and co-chair of the Working Group, hosted a series of three virtual public town hall meetings. OMB also held a Tribal consultation with Tribal leaders and members to discuss the proposed revisions. As a result of these efforts, members of the public submitted over 20,000 comments to the FRN,¹⁸ the Working Group scheduled 94 separate 30-minute listening sessions, and about 3,350 people joined the virtual town halls where over 200 people spoke to share their perspectives on SPD 15.

¹⁷ Karin Orvis, OMB Launches New Public Listening Sessions on Federal Race and Ethnicity Standards Revision, The White House (Aug. 30, 2022), available at https://www.whitehouse.gov/omb/briefing-room/2022/08/30/omb-launches-new-public-listening-sessions-on-federal-race-and-ethnicity-standards-revision/.

¹⁸ Initial Proposals for Updating OMB's Race and Ethnicity Data Standards Docket, Regulations.gov, available at https://www.regulations.gov/docket/OMB-2023-0001/comments (last visited Feb. 15, 2024).

The input from the experts on the Working Group, the strong existing research base, and the robust participation of the public, all helped shape the activities of the Working Group, their final recommendations to OMB, and OMB's final decisions.

C. Revisions to SPD 15

The revised standards presented in the Notice adopt several revisions intended to improve the quality and usefulness of Federal race and ethnicity data. This section explains the revisions by: describing the initial proposals of the Working Group, summarizing public input, describing the final recommendations of the Working Group (and how they differed, if at all, from the initial proposals), and presenting and explaining OMB's decisions.

1. Collect Race and Ethnicity Information Using One Combined Question

Working Group's Initial Proposals. The Working Group initially proposed that SPD 15 move from two separate questions to a single combined race and ethnicity question as the required design for self-reported race and ethnicity information collections. Refer to Section C, Part 1 of the January 2023 FRN ¹⁹ for additional information about this initial proposal from the Working Group.

¹⁹ 88 FR 5379.

Summary of Public Input. Many comments stated the current two questions structure is confusing to respondents, especially respondents who identify as Hispanic or Latino and do not identify with the 1997 SPD 15 race categories. Some commenters expressed that the current format with two separate questions creates an impediment to the collection of accurate race data on the Hispanic or Latino population. A common theme was the proposed change would improve the collection of race data for the Hispanic or Latino population by reducing the number of responses that leave the race question blank or are classified as “Some Other Race” when that option is available.²⁰ Some commenters, while generally in support of a combined question, suggested removing the words “race” and “ethnicity” from the question stem and emphasizing that respondents should select all categories that apply to them.

²⁰ Under the 1997 standards, data collections by Federal agencies may not include a Some Other Race (SOR) response category unless required by statute. Since 2005, the decennial census and American Community Survey (ACS) are required by law to include a SOR category, thereby adding a sixth minimum race category for these collections. The decennial census and ACS are the only information collections with a statutory requirement for the use of a SOR category. See Science, State, Justice, Commerce, and Related Agencies Appropriations Act, 2006, Public Law 109-108, tit. II, 119 Stat. 2290, 2308-09 (2005).

Some comments were opposed to, and expressed concerns about, this initial proposal. A notable concern was that the new format would lead to the potential loss of data about Afro-Latino respondents. Some commenters viewed a combined race and ethnicity question as conflating two distinct concepts and implying that Hispanic or Latino is a “race.” Commenters viewed that a combined question would result in a large percentage of Afro-Latinos only identifying as Hispanic or Latino, thereby contributing to an undercount of the Afro-Latino population. Overall, the majority of comments on the subject expressed support for using a single combined question and allowing multiple responses.²¹

²¹ A comprehensive review of public input on this initial proposal can be found in the Working Group's Annex 4, available on the Federal Register, https://www.federalregister.gov/, by searching for “OMB-2023-0001”.

Working Group's Final Recommendations. The final recommendation to OMB, consistent with the initial proposal, was to combine the current separate questions on Hispanic or Latino ethnicity and race into a single combined race and ethnicity question that allows respondents to select one or multiple categories, and require the use of this single-question format for both self-response and proxy response (for example, when one member of a household responds on behalf of other members). The final recommendation further specifies that a single selection would be considered a complete response (e.g., Hispanic or Latino respondents are not required to select an additional category), although respondents will be encouraged to provide multiple responses when appropriate.

The Working Group's final report states that “[s]ince 1980, responses to the decennial census in each subsequent decade have shown increasing non-response to the race question, confusion, and concern from the public about separate questions on ethnicity and race. . . . Results from the 2020 Census showed that 43.5 percent of those who self-identified as Hispanic or Latino either did not report a race or were classified as `Some Other Race' (SOR) alone (over 23 million people).” This increasing non-response and reporting of SOR was one of the primary indicators to OMB that SPD 15 was no longer providing options that align with how respondents prefer to identify. The NCT described in Section B, along with other Census Bureau research conducted in preparation for the 2020 Census,²² found that a combined question reduced confusion and improved data quality, including drastically reducing the selection of SOR by Hispanic or Latino respondents.

²² Elizabeth Compton et al., U.S. Census Bureau, 2010 Census Race and Hispanic Origin Alternative Questionnaire Experiment (Feb. 28, 2013), available at https://www.census.gov/programs-surveys/decennial-census/decade/2010/program-management/cpex/2010-cpex-211.html; Jacquelyn Harth, U.S. Census Bureau, 2016 American Community Survey Content Test: Race and Hispanic Origin (Sept. 19, 2017), available at https://www.census.gov/library/working-papers/2017/acs/2017_Harth_01.html.

In response to concerns from the Afro-Latino community about the potential impact of a combined question on population estimates, the Working Group evaluated several sources of evidence to inform their recommendations. The NCT compared Afro-Latino population estimates when using a combined question versus a separate questions format and did not find a significant difference between the approaches. In fact, Afro-Latino population estimates were slightly higher when using a combined question with detailed checkboxes and write-in fields. Additionally, the Working Group conducted cognitive interviews with Afro-Latino participants to explore how they identify and how they interpret questions about race and ethnicity. About half of interview participants selected only the Hispanic or Latino response category when shown a combined question, despite selecting both Hispanic or Latino and Black or African American response categories during recruitment. These cognitive interviews contributed to the Working Group's recommendation for future research on collecting data for Afro-descendent populations.²³

²³ Refer to the Working Group's final report and its Annexes 1 and 2 to learn more about the Working Group's research and analysis that ultimately led to this recommendation, available on the Federal Register, https://www.federalregister.gov/, by searching for “OMB-2023-0001”.

OMB Decisions. OMB accepts the recommendation to combine the separate questions on race and ethnicity into a single combined race and ethnicity question. Because respondents may perceive categories like Hispanic or Latino or MENA as either a race or ethnicity, the revised SPD 15 requires agencies to treat the categories equally and report them as “race and/or ethnicity” categories.

OMB's decision on this recommendation reflects the strong evidence that a combined question format results in higher quality and more useful data, and provides a format that is clearer and more concise for respondents while still allowing them to select as many race and/or ethnicity options that correspond to how they identify. OMB recognizes that additional research, testing, and stakeholder engagement is needed to understand how to best encourage the selection of multiple race and/or ethnicity categories for people who identify as Afro-Latino, and is prioritizing that research as discussed further in Section D. Finally, we note here that the revised SPD 15 adopts the Working Group's recommendation to modify the question instructions to better signal to respondents that they should select all of the categories that reflect their identity.

2. Add Middle Eastern or North African as a New Minimum Category

Working Group's Initial Proposals. The Working Group initially proposed that Middle Eastern or North African be added to SPD 15 as a new minimum reporting category distinct from all other reporting categories, and that the definition of the current White reporting category be edited to remove MENA from its definition. Refer to Section C, Part 2 of the January 2023 FRN ²⁴ for additional information about this initial proposal from the Working Group.

²⁴ 88 FR 5379.

Summary of Public Input. Nearly all comments addressing the MENA category supported the proposal. Commenters expressed that the current classification of MENA respondents as White does not reflect the reality of many who are MENA. A few commenters were opposed, either stating some individuals from the MENA region of the world do consider themselves to be White or that race and ethnicity data should not be collected by the Federal Government.

Many commenters also provided feedback about which groups should be considered MENA or have a checkbox under the MENA category, commenting that it was important for groups such as Armenians, Somalis, and Sudanese to be part of any MENA category. Overall, the vast majority of comments expressed support for adding a MENA minimum category, separate and distinct from White.²⁵

²⁵ A comprehensive review of public input on this initial proposal can be found in the Working Group's Annex 4, available on the Federal Register, https://www.federalregister.gov/, by searching for “OMB-2023-0001”.

Working Group's Final Recommendations. The Working Group's final recommendation was not changed from the initial proposal: “Add MENA as a new minimum reporting category distinct from all other reporting categories. Revise the definition for the White category to remove references to MENA, and classify and tabulate MENA responses under the new MENA category.” ²⁶

²⁶ Refer to the Working Group's final report and its Annex 1 to learn more about the Working Group's research and analysis that ultimately led to this recommendation, available on the Federal Register, https://www.federalregister.gov/, by searching for “OMB-2023-0001”.

OMB Decisions. OMB accepts the recommendation to create a new minimum reporting category for MENA separate and distinct from the White category, and to revise the White category definition accordingly.

MENA groups and members of the public generally have long voiced the need for a separate MENA minimum category. The 1997 revision to SPD 15 also identified MENA as a topic for further research because there was a lack of public consensus on how to define the category (e.g., shared language, geography) at the time.²⁷ Since then, Federal agencies have conducted research and stakeholder outreach showing broad public support for the use of the term “Middle Eastern or North African,” and that MENA respondents understand the use of the category and select it when available.²⁸

²⁷ 62 FR 58787.

²⁸ Stephanie Wilson & Sheba K. Dunston, Nat'l Ctr. for Health Stat., Ctrs. for Disease Control & Prevention, Cognitive Interview Evaluation of the Revised Race Question, with Special Emphasis on the Newly Proposed Middle Eastern/North African Response Option (2017), available at https://wwwn.cdc.gov/qbank/report/Willson_2017_NCHS_MENA.pdf; Kelly Mathews, supra note 16.

Described further in Part 3 below and consistent with the existing minimum categories, the detailed checkboxes and definition examples for the MENA category were selected to represent the largest population groups in the United States as reported by the 2020 Census. Although several commenters expressed interest in explicitly including Armenian, Somali, or Sudanese, the 2015 NCT found that most respondents who identify as Armenian, Somali, and Sudanese did not select MENA when it was offered.²⁹ Additional research is needed on these groups to monitor their preferred identification.

²⁹ In NCT test panels that did not include a MENA category, Armenian respondents chose the White category 90.8% of the time and Some Other Race 9.6% of the time, Somali respondents chose the Black or African American category 96.2% of the time, and Sudanese respondents chose the Black or African American category 98.4% of the time.

In NCT test panels that did include a MENA category, Armenian respondents chose the White category 79.0% of the time, the MENA category 12.6% of the time, and Some Other Race 9.3% of the time; Somali respondents chose the Black or African American category 94.2% of the time, Some Other Race 4.8% of the time, and the MENA category 0.0% of the time; Sudanese respondents chose the Black or African American category 87.2% of the time and MENA 8.0% of the time.

3. Require the Collection of Detailed Race and Ethnicity Categories as a Default

Working Group's Initial Proposals. The Working Group initially proposed requiring data collection of specific detailed data beyond the minimum categories, unless an agency determines the potential benefit of the detailed data would not justify the additional burden to the agency and the public or the additional risk to privacy or confidentiality and the agency requests and receives an exemption from OIRA. In those cases, agencies must at least use SPD 15's minimum categories. In any circumstance, agencies are encouraged to collect and provide more granular data than the minimum categories.

The specific detailed checkboxes shown in the January 2023 FRN represent the six largest population groups in the United States within each minimum category, based on responses to the 2010 Census. The exception to this rule is the six checkboxes shown for the MENA category, which represent the two largest Arab nationalities in the United States from the Middle East (Lebanese and Syrian), the two largest Arab nationalities in the United States from North Africa (Egyptian and Moroccan), and the two largest non-Arab nationalities in the United States from the MENA region (Iranian and Israeli). Refer to Section C, Part 3 of the January 2023 FRN ³⁰ for additional information about this initial proposal from the Working Group.

³⁰ 88 FR 5380.

Summary of Public Input. Comments supporting this proposal cited the diverse experiences of groups within each minimum reporting category. In particular, a number of health organizations expressed the importance of having data available for detailed groups to measure differences in healthcare outcomes. There were also comments advocating for flexibility in SPD 15 to allow for changes in the specific detailed categories used as new demographic data of the United States become available. Some urged that Federal agencies should be allowed to adapt the detailed categories based on their data collection needs and contexts, while others urged strict requirements for all agencies out of concern that any flexibility could be misused.

A few commenters were opposed, expressing concerns with the burden on Federal agencies, the risks to data privacy and disclosure for small population groups, and burden on respondents. Overall, the majority of comments expressed support for requiring the collection of more detail beyond the minimum categories as a default, but allowing agencies to determine what additional data to collect in order to best meet program and stakeholder needs.³¹

³¹ A comprehensive review of public input on this initial proposal can be found in the Working Group's Annex 4, available on the Federal Register, https://www.federalregister.gov/, by searching for “OMB-2023-0001”.

Working Group's Final Recommendations. The final recommendation of the Working Group differed from the initial proposal in the January 2023 FRN, reflecting input from Federal agencies concerned about the lack of flexibility. The Working Group's final recommendation was to require the collection of data on race and ethnicity with greater detail beyond the minimum reporting categories as a default, but to allow agencies flexibility to determine what additional data to collect to best meet program and stakeholder needs, provided the detailed data aggregate into the minimum reporting categories, and subject to OIRA approval. In cases where agencies determine the additional burden would outweigh the potential benefits of collecting detailed data, Federal agencies may seek approval from OIRA to use the minimum reporting categories. In any circumstance, SPD 15 should encourage to collect and provide more granular data than the minimum reporting categories.³²

³² Refer to the Working Group's final report and its Annex 1 to learn more about the Working Group's research and analysis that ultimately led to this recommendation, available on the Federal Register, https://www.federalregister.gov/, by searching for“OMB-2023-0001”.

OMB Decisions. OMB accepts the recommendation to require the collection of more detailed data as a default. However, the intent of SPD 15 to produce consistent and comparable data is best served by providing a common framework for the collection of detailed data, rather than allowing each agency to determine what additional detail to collect. Therefore, agencies are required to collect the detailed categories described in this Notice as a default. These detailed categories were selected to represent the largest population groups within the minimum categories, according to the results of the 2020 Census. Selecting the largest groups by United States population prioritizes the utility of the data by maximizing the sample sizes. Small sample sizes are often the primary barrier to publication of data for specific groups; small samples decrease precision, make it harder to identify differences between groups, and increase privacy risk.

OMB recognizes racial and ethnic identities and terminology are continuously changing and SPD 15 needs to balance the need for consistency with the ability to adapt to change and meet specific program needs. An agency may submit a request to OIRA for an exemption to the requirement to collect more detailed data beyond the minimum categories if the agency determines that the potential benefit of the detailed data would not justify the additional burden to the agency and the public or the additional risk to privacy or confidentiality. Agencies may also submit a request to OIRA for a variance to the detailed categories if they determine that collecting different detailed data categories than the ones listed in SPD 15 provides more useful or accurate data for the collection's specific context and intended uses. Any variances in detailed data collection must be able to be aggregated up to the required minimum categories. OIRA will review agency requests for exceptions and variances, and they will only be approved if they contain sufficient justification. Finally, due to the extensive testing done in the context of the American Community Survey, agencies may collect the detailed categories used on the most recent version of that survey, should they differ from the detailed categories listed in SPD 15, without further justification.

4. Updates to Terminology in SPD 15

Working Group's Initial Proposals. The Working Group initially proposed SPD 15 remove certain terms or phrases in the minimum category definitions: “Negro” from the Black or African American definition; “Far East” from the Asian definition, replacing with “East Asian;” “Other” from Native Hawaiian and Other Pacific Islander; and “who maintain tribal affiliation or community attachment” from the American Indian or Alaska Native (AIAN) definition.

The FRN also proposed: (1) correcting “Cuban” from being listed twice in the minimum category definition for Hispanic or Latino; (2) changing the AIAN minimum category description to: “The category `American Indian or Alaska Native' includes all individuals who identify with any of the original peoples of North, Central, and South America;” (3) discontinuing the use of the terms “majority” and “minority;” (4) using “race” and “ethnicity” as part of the question stem, e.g., “What is < your/name's > race or ethnicity?;” and (5) updating the current instructions of “Mark one or more” and “Select one or more” to “Mark all that apply” and “Select all that apply.” Refer to Section C, Part 4 of the January 2023 FRN ³³ for additional information about this initial proposal from the Working Group.

³³ 88 FR 5382.

Summary of Public Input. Comments generally demonstrated support for these proposals. The removal of the phrase “who maintain tribal affiliation or community attachment” was supported by several key organizations including the National Congress of American Indians. Some commenters called for greater clarity in which geographic areas would be referenced in the Asian definition. Comments from organizations that work with Central Asian populations in the United States explicitly requested “Central Asia” be included in the Asian definition. A number of public comments supported the replacement of the term “Far East” in the Asian definition and the removal of the term “Other” from the Native Hawaiian and Other Pacific Islander definition. Among those who submitted comments about SPD 15 terminology, the majority agreed with the proposal to remove “Negro” from the Black or African American definition; however, some comments asked to retain the term, citing its long history on government records such as birth certificates and prior decennial census records.³⁴

³⁴ A comprehensive review of public input on this initial proposal can be found in the Working Group's Annex 4, available on the Federal Register, https://www.federalregister.gov/, by searching for “OMB-2023-0001”.

Working Group's Final Recommendations. The Working Group refined their initial proposals based on public comment and delivered the following recommendations to OMB to update terminology in SPD 15.³⁵

³⁵ Refer also to the Working Group's final report and its Annex 1 to learn more about the Working Group's research and analysis that ultimately led to these recommendations, available on the Federal Register, https://www.federalregister.gov/, by searching for “OMB-2023-0001”.

(a) Remove “majority” and “minority” terminology, except when statistically accurate and used for statistical descriptions or when legal requirements call for use of the terms.

(b) Use “race and/or ethnicity” in the question stem.

(c) Use instructions that emphasize reporting multiple categories is allowed (and encouraged), regardless of whether minimum or detailed reporting categories are collected. Explicit instructions that the respondent can select all that apply AND provide detailed reporting is helpful. For example:

i. In a self-administered instrument collecting the minimum reporting categories: “Select all that apply. Note, you may report more than one group.”

ii. In a self-administered instrument collecting detailed categories: “Select all that apply and enter additional details in the spaces below. Note, you may report more than one group.”

(d) Use “Multiracial and/or Multiethnic” in tabulations to represent people who identify with multiple minimum reporting categories.

(e) Provide balance for definitions and use six example groups to illustrate the breadth and diversity of the category. In addition, make the following updates to the race and ethnicity definitions:

i. Remove the phrase “who maintains tribal affiliation or community attachment” in the AIAN definition.

ii. Change “(including Central America)” to having “Central America” listed co-equally with North and South America in the AIAN definition.

iii. Replace “Far East” with “Central or East Asia” and “Indian Subcontinent” with “South Asia” in the Asian definition.

iv. Remove “Negro” from the Black or African American definition.

v. Correct “Cuban” being listed twice in the Hispanic or Latino definition.

vi. Remove “. . . regardless of race. The term `Spanish origin' can be used in addition to `Hispanic or Latino' ” from the Hispanic or Latino definition.

vii. Remove “Other” from the “Native Hawaiian and Other Pacific Islander” category title.

OMB Decisions. OMB accepts the Working Group's final recommendations for revising the terminology in SPD 15, including the recommendations for revisions to the question stem and minimum category definitions, with the following two exceptions. First, in regards to recommendation (c) above, OMB does not include the phrase “Note, you may report more than one group” in the required question instructions. Additional testing conducted after the Working Group delivered their final recommendations found that including this phrase had the opposite of the intended effect and resulted in a sizeable decrease in the number of respondents selecting multiple responses. Encouraging multiple responses whenever appropriate is critical to measuring the completeness and complexity of racial and ethnic identity. The revised standards require the use of the following question instructions: “What is your race and/or ethnicity? Select all that apply and enter additional details in the spaces below.” Section D of this notice, which identifies OMB's priority areas for future research, includes the following research topic: how to encourage respondents to select multiple race and/or ethnicity categories when appropriate by enhancing question design and inclusive language.

Second, in regards to recommendation (e) above, to align better with the other category definitions, as well as the previous definition, the revised SPD 15 adopts the following definition for the Hispanic or Latino category: “Hispanic or Latino. Includes individuals of Mexican, Puerto Rican, Salvadoran, Cuban, Dominican, Guatemalan, and other Central or South American or Spanish culture or origin.” Consistent with the Working Group's recommendations, the revised category definitions list six example groups reflecting the largest population groups in the United States according to the 2020 Census.

These revisions will bring the terminology in SPD 15 more up to date, will more clearly explain that respondents should select more than one category when appropriate, and greatly increase the consistency and clarity of the minimum category definitions.

5. Implementation Guidance

Working Group's Initial Proposals. The Working Group requested public input on how to best implement revisions to SPD 15. It listed several related issues including dates agencies must meet as they incorporate revisions; statistical methods to connect data produced from previous and revised collection formats; approaches for collecting race and ethnicity information by proxy when self-identification is not possible; approaches for reporting data for respondents who select more than one race or ethnicity; obtaining OIRA approval under the PRA to revise existing collections; and best practices for communicating SPD 15 revisions to stakeholders. Refer to Section C, Part 5 of the January 2023 FRN ³⁶ for additional information about the Working Group's request for public input.

³⁶ 88 FR 5383.

Summary of Public Input. OMB received fewer public comments on the implementation issues than on the previous initial proposals. Public input on these issues included statements on the following topics: ³⁷

³⁷ A comprehensive review of public input on this initial proposal can be found in the Working Group's Annex 4, available on the Federal Register, https://www.federalregister.gov/, by searching for “OMB-2023-0001”.

• The importance of establishing a specific time Federal agencies would need to come into compliance with the revised SPD 15, and generally supporting the inclusion of an implementation timeline in the revised SPD 15;

• Concerns about data consistency when data are collected using the 1997 revision versus the current revision, whether across different data sets or within the same data set when data are collected over time;

• The need for tools to support bridging, or combining data collected under different versions of SPD 15;

• Support for requiring agencies to transparently describe how data were collected or generated and how nonresponse or other missing data were assigned or allocated when data were not collected via self-report;

• Questions about tabulation under a revised SPD 15, including:

○ Will those of Hispanic or Latino origin continue to be treated differently in civil rights reporting? ³⁸

³⁸ Currently most civil rights reporting in practice (not by SPD 15 guidance) is tabulated such that Hispanic or Latino responses supersede any race response. Hispanic or Latino responses are tabulated separately and race is only tabulated and reported for non-Hispanic or Latino respondents. Office of Management and Budget, supra note 8.

○ How will multiple race and ethnicity responses be tabulated?

○ What will be the best practices and flexibilities for tabulating detailed data?

• Concern about individuals that select multiple response categories being grouped into one “multiple race or ethnicity” category, resulting in respondents with very different racial and ethnic identities being placed into the same category and in less information being released about the population's diversity;

• The importance of guidance on flexibility and best practices on how to tabulate detailed categories based on the population or sample size; and

• The limitations of proxy or observational data and the importance of clearly acknowledging those limitations. Several expressed how these forms of data collection are inherently biased. Some comments requested training, guidance, or technical assistance for how and when to use these methods and how to analyze resulting data. Some noted observational data collection is not necessarily of lesser value in some circumstances than self-identification, but instead measures a different concept and provides answers to a different set of questions that may be of interest (e.g., discrimination resulting from perceived race). Overall, the majority of public comments on the subject leaned toward prohibiting the collection of race and ethnicity by proxy.

Working Group's Final Recommendations. Based on public input and further discussions with Federal agencies, the Working Group developed five final recommendations related to implementation.³⁹ The first set includes two recommendations on planning and timing, and the second set includes three recommendations on how to improve collection and reporting practices for race and ethnicity data.

³⁹ Refer to the Working Group's final report and its Annex 3 to learn more about the Working Group's research and analysis that ultimately led to these recommendations, available on the Federal Register, https://www.federalregister.gov/, by searching for “OMB-2023-0001”.

Recommendations on implementation and timing.

(a) Require an Action Plan on Race and Ethnicity Data within 12 months of the publication of a revised SPD 15. Encourage Federal agencies to use these action plans to make a unified plan to comply with SPD 15, identify potential risks, and inform stakeholders of these plans. OMB should encourage agencies to share this information publicly. Statistical agencies may still create their own action plan alongside the unified department plan to provide more detail on various data collection efforts and dissemination plans.

(b) Existing Federal agency-conducted or -sponsored data collection efforts that include data on race and ethnicity shall be made consistent with the revised SPD 15 within four years of its publication. New Federal data collections that include data on race and ethnicity will adhere to the revised SPD 15 immediately.

Recommendations for improving the collection and reporting practices for race and ethnicity data.

(c) When the collection of race and ethnicity is done through visual observation, require the use of the minimum reporting categories but do not require the collection of detailed race and ethnicity. Respondent self-identification should be facilitated to the greatest extent possible.

(d) When data are not self-reported, encourage agencies to transparently describe how the data were collected or generated, and how nonresponse or other missing data were assigned or allocated. Federal agencies and researchers should make it a practice to identify when data collections of race and ethnicity are intentionally designed to collect proxy responses, observational data, or employ a combination of self-identification, visual observation, and other collection methods.

(e) With respect to tabulation, require that the seven minimum race and ethnicity reporting categories be treated co-equally, by not using different tabulation approaches or rules for different categories in the same table. Additionally, require that tabulation procedures used by Federal agencies result in the production of as much information on race and ethnicity as possible, including data on people reporting more than one race and/or ethnicity. However, Federal agencies shall not present data on detailed categories and specific Multiracial and/or Multiethnic populations if doing so would compromise data quality or respondent privacy.

OMB Decisions.

(a) OMB accepts this recommendation to require an Action Plan on Race and Ethnicity Data with the following modifications: Based on input from Federal agencies, each agency's Action Plan on Race and Ethnicity Data is required within 18 months of publication of this Notice, rather than the recommended 12 months. This will provide more time for agencies to coordinate across programs and engage stakeholders and data providers to submit a more specific Action Plan to OMB. Agencies do not need to wait for their Action Plans to be complete to start implementing the revisions wherever possible. To improve transparency, agencies must make their Action Plans publicly available upon submission to OMB.

(b) OMB accepts this recommendation to create a deadline for implementation with the following modification: Based on input from Federal agencies, the deadline for compliance with this revised SPD 15 is five years after the publication of this Notice, rather than the recommended four years. Most programs will be able to, and should, implement revisions sooner than the five-year deadline for compliance. Certain programs that involve interconnected data across multiple agencies or offices, or that rely on data collected and provided by non-Federal entities, may take longer to implement than programs like statistical surveys, but all programs are required to bring their collections into compliance within the five-year implementation period. OIRA will use the PRA review process to ensure that agencies adopt these revisions in a timely manner.

(c) OMB accepts without modification this recommendation to exempt data collected through visual observation from requirements to collect detailed data. The revised SPD 15 further specifies that wherever possible, race and ethnicity data should be collected through self-report.

(d) OMB accepts this recommendation to encourage agencies to transparently describe race and ethnicity data with the following modifications: For statistical survey reporting, agencies are required, rather than encouraged, to transparently describe whether race and ethnicity data are self-reported or collected by proxy, along with any imputation or coding procedures. With respect to other agency products, agencies are strongly encouraged to provide this information whenever possible. OIRA will continue to review agency PRA requests to ensure that race and ethnicity data are collected by self-report whenever possible.

(e) OMB accepts this recommendation to require agencies to treat the race and ethnicity categories co-equally with the following clarifications: With respect to collection, the seven minimum race and ethnicity categories shall be treated co-equally, except if a program or collection effort focuses on a specific racial or ethnic group, as approved by OIRA. Collection forms may not indicate to respondents that they should interpret some categories as ethnicities and others as races, or otherwise indicate conceptual differences among the minimum categories. Similarly, with respect to tabulation and presentation, the seven minimum race and ethnicity categories shall also be treated co-equally, which means that when tabulating and presenting data, agencies may not use different tabulation approaches or rules for different categories within the same table. Again, an exception may be granted, if a program or collection effort focuses on a specific racial or ethnic group, as approved by OIRA.

6. Additional Topics

Section C, Part 5 of the January 2023 FRN ⁴⁰ posed several additional questions for the public. This section presents public input on these topics, as well as any associated recommendations from the Working Group and OMB's decisions.

⁴⁰ 88 FR 5383.

Order of Minimum Categories

Summary of Public Input. The 1997 revision of SPD 15 does not dictate the order in which the minimum categories are displayed. Agencies generally order alphabetically or by population size; however, both approaches have received criticism. The Working Group asked what order, alphabetical or by population size, is preferred and why; or what alternative approach would be recommended. The comments addressing this subject agreed on ordering alphabetically, as this seemed the easiest way to order the categories and would be the least likely to be perceived as motivated by non-statistical preferences.⁴¹

⁴¹ A comprehensive review of public input on this question can be found in the Working Group's Annex 4, available on the Federal Register, https://www.federalregister.gov/, by searching for “OMB-2023-0001”.

Working Group's Final Recommendation. The Working Group did not make a recommendation on this topic, citing insufficient research. Members of the Working Group raised concerns that alphabetical ordering could lead to measurement error if respondents scanning the question quickly see the term “American” in the AIAN category and mistakenly select that category to indicate American identity, even if they do not identify as American Indian or Alaska Native.

OMB Decision. OMB concurs with the Working Group's determination that there is not sufficient evidence at this time to justify requiring a specific ordering for presentation, and SPD 15 will continue to provide agencies flexibility on how to order the response categories on information collections so that future research can inform the optimal approach to ordering response options. Note that all examples in this revision to SPD 15 will be shown with alphabetically-ordered minimum response categories.

Terms for Minimum Categories

Summary of Public Input. The FRN asked for suggestions for different terms for any of the current minimum race and ethnicity categories. There were no prominent themes for such specific changes. Input from the public included requests to add Caribbean and Sub-Saharan African minimum response categories, separate from African American; retire the use of the term “African American;” broaden the AIAN category title to signal inclusion of all indigenous people of the Americas; remove “color” words in category titles (i.e., Black and White) and replace with regional terms; create South Asian and Southeast Asian minimum response categories; and add categories related to contextualized Hispanic or Latino heritage, such as Mestizo, Afro-Latino, or Trigueño.⁴² A comprehensive review of public input on this question can be found in the Working Group's Annex 4.

⁴² A comprehensive review of public input on this question can be found in the Working Group's Annex 4, available on the Federal Register, https://www.federalregister.gov/, by searching for “OMB-2023-0001”.

Working Group's Final Recommendation. The Working Group recommends preserving the existing minimum category titles in SPD 15, but also recommends future research, stakeholder engagement, and consultation on legal requirements to explore whether the names of minimum categories should be revised and, if so, how.⁴³

⁴³ Refer to the Working Group's final report and its Annexes 1 and 5 to learn more, available on the Federal Register, https://www.federalregister.gov/, by searching for “OMB-2023-0001”.

OMB Decision. OMB concurs with these recommendations and will maintain existing category titles. Continuity in the category titles supports more consistent and comparable data over time. Therefore, the only changes to the minimum category titles will be the addition of the MENA category and the removal of “Other” from the “Native Hawaiian and Other Pacific Islander” category title. With regard to concerns with the AIAN category title, OMB recognizes the need for further research and reiterates the importance of ensuring that major revisions to the question format, such as substantially changing a category title, are based on rigorous research and public input to avoid inadvertently affecting population estimates, creating breaks in series, or confusing respondents. OMB also notes that SPD 15 is not intended to measure Tribal enrollment or the status of Tribes. The revisions to the category definition are intended to improve estimates of the AIAN population in Federal statistics, and are not intended to in any way diminish or otherwise affect the political relationship between the sovereign Tribes and the Federal Government.

Collecting Data Related to Descent From Persons Who Were Enslaved in the United States

Summary of Public Input. The FRN asked, “How can Federal surveys or forms collect data related to descent from enslaved peoples originally from the African continent? For example, when collecting and coding responses, what term best describes this population group (e.g., is the preferred term `American Descendants of Slavery,' `American Freedmen,' or something else)? How should this group be defined? Should it be collected as a detailed group within the `Black or African American' minimum category, or through a separate question or other approach?”

The majority of the public input on this subject expressed support for adding a category or question to identify descendants of persons enslaved in the United States. There was support for terms including: Foundational Black American, American Descendant of Slavery, American Freedman or Freedman, Black American, African-American, and Negro or American Negro; however, there was disagreement about which term is preferred. Commenters described the importance of collecting these data and the value for data users and policymakers, pointed to existing research that shows differences in outcome measures, like income and wealth, and stated that descendants of persons who were enslaved in the United States are ethnically distinct from African immigrants.

Other commenters, including civil rights groups, opposed the collection of these data. Commenters expressed concern about the difficulty of verifying that identification is accurate, the usefulness or necessity of the data, the exclusion of other groups of historically enslaved people, and the creation of confusion that could make the Black or African American community harder to count. Related, there was also concern about potential harm to the full and accurate count of the Black or African American population, particularly Black or African American immigrants. The comments noted the lack of in-depth research and engagement with the diverse Black or African American community on terminology, definition, and data collection and coding protocol, as well as implications on the counts of other Black or African American diasporic populations.⁴⁴

⁴⁴ A comprehensive review of public input on this question can be found in the Working Group's Annex 4, available on the Federal Register, https://www.federalregister.gov/, by searching for “OMB-2023-0001”.

Working Group's Final Recommendation. The Working Group did not recommend disaggregation of the Black or African American category by descent from persons who were enslaved in the United States. They identified the disaggregation of Black or African American population groups as a priority area for future research and noted that additional stakeholder engagement is also needed.⁴⁵

⁴⁵ Refer to the Working Group's final report and its Annex 1 to learn more, available on the Federal Register, https://www.federalregister.gov/, by searching for “OMB-2023-0001”.

OMB Decision. OMB concurs with this recommendation and the Working Group's determination that further research is needed. Individuals and civil rights groups disagreed on whether or how to implement this potential revision. We note that the revised SPD 15 does not prohibit agencies from asking additional questions related to race, ethnicity, ancestry, or other related concepts, including descent from persons who were enslaved in the United States. We also note that the revised SPD 15 maintains the long-standing position that the race and/or ethnicity categories are not to be used as determinants of eligibility for participation in any Federal program.

Additional Comments Not Covered Above

Finally, the Working Group and OMB welcomed other comments and suggestions on any other ways SPD 15 could be revised to produce more accurate and useful data.

Some comments suggested adding a box for people to choose not to identify. OMB maintains the current practice of not allowing agencies to provide a specific response option for “prefer not to respond,” in order to maximize the quality, usefulness, and consistency of Federal race and ethnicity data. We note that with very few exceptions, provision of race and ethnicity information is voluntary for respondents.

Other commenters asked OMB to revise the category definitions to include an exhaustive list of nationalities and their associations with the minimum categories for use in coding write-in responses. Aligned with the Working Group's recommendations on category definitions, OMB's revisions do not establish an exhaustive coding list that associates all possible nationalities with one or more of the minimum race and ethnicity categories. While the minimum category definitions and detailed categories in this revision to SPD 15 rely heavily on the concept of nationality, OMB recognizes that nationality is one of several components that contribute to racial and ethnic identity. The standards in SPD 15 are intended to facilitate individual identity to the greatest extent possible while still enabling the creation of consistent and comparable data. OMB specifies in this revision to SPD 15 that when coding write-in data, agencies must adopt practices that maximize comparability between data collected on forms and surveys with and without write-in fields to ensure the comparability of race and ethnicity data across Federal datasets.

Some commenters expressed that SPD 15 is not revised often enough to stay current with shifts in demography and identity. In response, OMB commits to undertaking regular reviews of SPD 15 as described in Section D of this notice.

Some commenters requested the addition of new minimum categories, such as a Mediterranean or Italian category, distinct from the White category. Other commenters also requested the addition of specific checkboxes for a variety of nationalities not covered in the initial proposals.

OMB's revisions to SPD 15 add only one new minimum category, Middle Eastern or North African, the addition of which is supported by many years of research, testing, and stakeholder engagement. OMB will continue to monitor SPD 15 for its effectiveness, and regular reviews will include consideration of potential new minimum categories.

Some commenters requested increasing the maximum characters in the American Indian or Alaska Native write-in field. OMB chose not specify in SPD 15 the length of the write-in fields or how these data are collected in order to allow agencies the flexibility to continue the use of paper forms when necessary and to adopt new data collection practices that may minimize burden, such as using drop-down menus. When collecting write-in data, agencies should seek to minimize burden to respondents and provide as much space as feasible to support complete and accurate responses.⁴⁶

⁴⁶ A comprehensive review of public input can be found in the Working Group's Annex 4, available on the Federal Register, https://www.federalregister.gov/, by searching for “OMB-2023-0001”.

D. Topics for Future Research

The Working Group and OMB identified several areas that require further research before the next review of SPD 15.

1. What data processing procedures, such as coding, editing, and imputation practices, maximize the comparability of data collected across the Federal Government when using different combined question formats, for example between collections with and without write-in fields.

2. How to encourage respondents to select multiple race and/or ethnicity categories when appropriate by enhancing question design and inclusive language, for example by researching methods for ensuring complete and accurate estimates of people who identify as Afro-Latino.

3. How to collect high quality and useful data related to descent from persons who were enslaved in the United States, including research on terminology, question design, data quality, and willingness to provide these data.

4. The optimal order of presentation for minimum categories, including research on rates of data entry error, burden, and respondent preference.

5. Collecting race and ethnicity consistently across different languages and translations of the question.

6. Evaluating the detailed checkboxes as demographics shift over time for their ability to generate useful, high-quality data.

7. How respondents interpret each of the SPD 15 categories and definitions, and the combined race and/or ethnicity question in general, along with potential modifications to minimum category names.

8. How to better align the AIAN category title with its definition while preserving data quality, for example by exploring the use of a more inclusive title such as “Indigenous peoples of the Americas.”

It is expected that the list of important research topics to examine before the next review will grow as agencies begin implementing these new standards over the coming years. OMB commits to establishing an Interagency Committee on Race and Ethnicity Statistical Standards, to be convened by the Chief Statistician of the United States, that will maintain and carry out a Government-wide research agenda and undertake regular reviews of SPD 15. These reviews will take place on a 10-year cycle and will include opportunity for public input. The review will result in a recommendation to the Chief Statistician of the United States as to whether or not OMB should undertake a revision of SPD 15. Notwithstanding this regular review cycle, OMB may decide at any time to initiate a review of SPD 15.

Richard L. Revesz,
Administrator, Office of Information and Regulatory Affairs.

Standards for Maintaining, Collecting, and Presenting Federal Data on Race and Ethnicity

This Statistical Policy Directive provides the standards for maintaining, collecting, and presenting race and ethnicity data for all Federal information collection and reporting purposes. The categories in these standards are understood to be socio-political constructs and are not an attempt to define race and ethnicity biologically or genetically. They are not to be used as determinants of eligibility for participation in any Federal program. The standards do not require any agency or program to collect race and ethnicity data; rather they provide a common language for uniformity and comparability in the collection and use of race and ethnicity data by Federal agencies.

The standards have seven minimum categories for data on race and ethnicity: American Indian or Alaska Native, Asian, Black or African American, Hispanic or Latino, Middle Eastern or North African, Native Hawaiian or Pacific Islander, and White.

1. Categories and Definitions

The minimum categories for data on race and ethnicity for Federal statistics, program administrative reporting, and civil rights compliance reporting are defined as follows:

American Indian or Alaska Native. Individuals with origins in any of the original peoples of North, Central, and South America, including, for example, Navajo Nation, Blackfeet Tribe of the Blackfeet Indian Reservation of Montana, Native Village of Barrow Inupiat Traditional Government, Nome Eskimo Community, Aztec, and Maya.

Asian. Individuals with origins in any of the original peoples of Central or East Asia, Southeast Asia, or South Asia, including, for example, Chinese, Asian Indian, Filipino, Vietnamese, Korean, and Japanese.

Black or African American. Individuals with origins in any of the Black racial groups of Africa, including, for example, African American, Jamaican, Haitian, Nigerian, Ethiopian, and Somali.

Hispanic or Latino. Includes individuals of Mexican, Puerto Rican, Salvadoran, Cuban, Dominican, Guatemalan, and other Central or South American or Spanish culture or origin.

Middle Eastern or North African. Individuals with origins in any of the original peoples of the Middle East or North Africa, including, for example, Lebanese, Iranian, Egyptian, Syrian, Iraqi, and Israeli.

Native Hawaiian or Pacific Islander. Individuals with origins in any of the original peoples of Hawaii, Guam, Samoa, or other Pacific Islands, including, for example, Native Hawaiian, Samoan, Chamorro, Tongan, Fijian, and Marshallese.

White. Individuals with origins in any of the original peoples of Europe, including, for example, English, German, Irish, Italian, Polish, and Scottish.

2. Question Format

Combined question: A combined race and ethnicity question is required for both self-response and proxy data collection. Respondents shall be offered a single combined race and ethnicity question that allows them to select one category or multiple categories. A single selection will be considered a complete response (e.g., Hispanic or Latino respondents are not required to select an additional category).

Detailed responses: The revised SPD 15 requires the collection of detailed data on race and ethnicity beyond the minimum categories, unless an agency determines that the potential benefit of the detailed data would not justify the additional burden to the agency and the public or the additional risk to privacy or confidentiality, and therefore requests an exemption from OIRA. In those cases, Federal agencies must at least use the minimum categories and justify this determination in the agency's PRA information collection review package. In cases where the data collection is not subject to the information collection approval process, a direct request for a variance shall be made to OMB through the Office of Information and Regulatory Affairs (OIRA). Respondents must be offered the following detailed categories for the corresponding minimum categories:

Asian: Chinese, Asian Indian, Filipino, Vietnamese, Korean, and Japanese, Another group (for example, Pakistani, Hmong, Afghan, etc.)

Black or African American: African American, Jamaican, Haitian, Nigerian, Ethiopian, Somali, Another group (for example, Trinidadian and Tobagonian, Ghanian, Congolese, etc.)

Hispanic or Latino: Mexican, Puerto Rican, Salvadoran, Cuban, Dominican, Guatemalan, Another group (for example, Colombian, Honduran, Spaniard, etc.)

Middle Eastern or North African: Lebanese, Iranian, Egyptian, Syrian, Iraqi, Israeli, Another group (for example, Moroccan, Yemeni, Kurdish, etc.)

Native Hawaiian or Pacific Islander: Native Hawaiian, Samoan, Chamorro, Tongan, Fijian, Marshallese, Another group (for example, Chuukese, Palauan, Tahitian, etc.)

White: English, German, Irish, Italian, Polish, Scottish, Another group (for example, French, Swedish, Norwegian, etc.)

Whenever possible, the “Another group” detail category checkboxes should be replaced with write-in fields that allows respondents to self-identify as shown in Figure 1 below. Providing a write-in field is especially critical for the American Indian or Alaska Native category, which does not have required detailed categories under these standards. The instructions for the write-in boxes should read “Enter, for example,” followed by the examples listed in parentheses above. For the American Indian or Alaska Native category, the instructions for the write-in option should read: “Enter, for example, Navajo Nation, Blackfeet Tribe of the Blackfeet Indian Reservation of Montana, Native Village of Barrow Inupiat Traditional Government, Nome Eskimo Community, Aztec, Maya, etc.”

Instead of the detailed categories listed above and shown in Figure 1, agencies may use the detailed categories employed by the U.S. Census Bureau's most recently fielded American Community Survey. Any disaggregated data collected in addition to the detailed categories presented here (for example, a drop-down list for the American Indian or Alaska Native category) must be organized in such a way that the additional categories can be aggregated into the minimum categories. Any other variation to the detailed categories must be specifically authorized by the Office of Management and Budget (OMB) through the Paperwork Reduction Act (PRA) information collection approval process. In those cases where the data collection is not subject to the information collection approval process, a direct request for a variance shall be made to OMB through the Office of Information and Regulatory Affairs (OIRA).

Question instruction. Respondents shall be offered the option of selecting one or more racial and ethnic designations. The question instructions will vary depending on whether there is a write-in field or if there are detailed categories. For questions with detailed categories and no write-in fields, the question instructions should read: “What is your race and/or ethnicity? Select all that apply.” When write-in fields are provided, the instructions should read: “What is your race and/or ethnicity? Select all that apply and enter additional details in the spaces below.” When collecting only the minimum categories, the question instructions should read “What is your race and/or ethnicity? Select all that apply.”

Examples. The following three figures provide illustrative examples of question formats that comply with SPD 15. The standards do not specify the order that responses must be presented, but agencies typically order the responses alphabetically, as shown, or by population size. SPD 15 envisions that whenever possible agencies will collect race and ethnicity data with a question format that includes the required minimum categories disaggregated by the required detailed categories as illustrated in Figure 1.

BILLING CODE 3110-01-P

When an agency receives an OIRA exemption from collecting detailed data, it may use a format that includes only the minimum categories, as shown in Figures 2 and 3.

BILLING CODE 3110-01-C

When using the minimum categories only, the quality of the data and consistency with other datasets may be improved by providing the respondent with examples as shown in Figure 2. Agencies should provide these examples when feasible over the example in Figure 3 without examples.

3. Data Collection and Editing Procedures

With respect to collection, the seven minimum race and ethnicity categories shall be treated co-equally except if a program or collection effort focuses on a specific racial or ethnic group, and only as approved by OIRA. Collection forms may not indicate to respondents that they should interpret some categories as ethnicities and others as races, or otherwise indicate conceptual differences among the minimum categories.

The mode of data collection may offer additional options for collecting detailed data. In electronic modes of collection, for example, agencies may use multiple screens to collect detailed data. The minimum reporting categories may be collected on an initial screen and detailed data for each minimum reporting category the respondent selected may be collected on follow up screens, whether through checkboxes, drop down menus, write-in areas, or another method.

If detailed race and ethnicity data are collected in an interviewer-administered setting, the minimum categories should be asked first, treating each category as a yes/no question, followed by the detailed categories associated with the selected minimum categories.

The method of data collection has implications for the quality and fitness for use of the resulting data. Wherever possible, race and/or ethnicity data should be collected through self-report, where the respondents directly provide their own race and/or ethnicity. In cases where self-report is not possible, data may be collected by proxy reporting, where a person knowledgeable of another's race and/or ethnicity responds on their behalf; by record matching, where existing records on an individual that contain their race and/or ethnicity are used to supply the information; or by observer identification, where an observer uses their best judgement of the most appropriate race and/or ethnicity categories in which to report an individual.

When data are collected through visual observation, agencies are not required to collect detailed categories and are encouraged to instead use the minimum categories. For statistical survey reporting, agencies must maintain records on the mode and method of data collection, and how nonresponse or other missing data were assigned or allocated, and must make that information available to data users to allow them to evaluate the utility, objectivity, and integrity of the data. Agencies should also maintain and provide this information for administrative, grant, and compliance-related data collections whenever feasible. Agencies should use the terminology in this section when describing the method of collection and should make it a practice to describe the method of data collection in any reports on data collection design or methods.

When coding write-in data, imputing missing data, or otherwise editing responses, agencies must adopt practices that maximize comparability between data collected on forms and surveys with and without write-in fields. Doing so will improve the comparability of race and ethnicity data across Federal datasets. For statistical survey reporting, agencies must maintain records on data processing procedures (such as coding, editing, and imputation practices), and must make that information available to data users to allow them to evaluate the utility, objectivity, and integrity of the data. Agencies should also maintain and provide this information for administrative, grant, and compliance related data collections whenever feasible.

4. Presentation of Data on Race and Ethnicity

The tabulation procedures used by Federal agencies must result in the production of as much information on race and/or ethnicity as possible, including data on people reporting multiple categories. However, Federal agencies must not release race and ethnicity data if doing so would violate agency or Federal policies designed to ensure data quality or protect respondent privacy or confidentiality. When data are presented, Federal agencies are encouraged to use one or more of the three approaches below.

Approach 1. The alone or in combination approach combines all individuals belonging to a particular racial or ethnic group (whether alone or in combination with another racial or ethnic group). For example, a respondent who reported being both White and Black or African American would fall into both the “White alone or in combination” category and the “Black or African American alone or in combination” category. This practice has been in place since the 1997 revision of SPD 15 and is useful if the goal is capturing all people who might face a given life experience (e.g., increased risk of a disease or discrimination). Percentages across the categories sum to greater than 100 percent because the response categories are not mutually exclusive in this approach. The following is an example of the tabulation categories for this approach:

• American Indian or Alaska Native alone or in combination

• Asian alone or in combination

• Black or African American alone or in combination

• Hispanic or Latino alone or in combination

• Middle Eastern or North African alone or in combination

• Native Hawaiian or Pacific Islander alone or in combination

• White alone or in combination

Approach 2. The most frequent multiple responses approach reports as many possible race and ethnicity combinations as possible. For example, an agency could report the seven minimum race and ethnicity categories alone, as well as race and ethnicity combinations meeting a specific population threshold or combinations of particular interest, or all observed combinations of multiple race and ethnicity groups. The percentages will sum to 100 percent because the response categories are mutually exclusive. The following is an example of possible tabulation categories for this approach:

• American Indian or Alaska Native alone

• Asian alone

• Black or African American alone

• Hispanic or Latino alone

• Middle Eastern or North African alone

• Native Hawaiian or Pacific Islander alone

• White alone

• American Indian or Alaska Native and Hispanic or Latino

• American Indian or Alaska Native and White

• Asian and Native Hawaiian or Pacific Islander

• Asian and White

• Black or African American and Middle Eastern or North African

• Black or African American and White

• Hispanic or Latino and Black or African American

• Hispanic or Latino and White

• Middle Eastern or North African and Asian

• Middle Eastern or North African and White

• Native Hawaiian or Pacific Islander and Black or African American

• Native Hawaiian or Pacific Islander and White

• All additional Multiracial and/or Multiethnic groups

Approach 3. The combined Multiracial and/or Multiethnic approach presents data for those reporting one of the seven race and/or ethnicity categories alone, and then combines all other respondents reporting multiple race and/or ethnicity categories into an aggregated Multiracial and/or Multiethnic category. This approach will often obscure the specific racial and ethnic diversity of the population (e.g., over half of the population who identify as American Indian or Alaska Native and Native Hawaiian or Pacific Islander may be assigned to the Multiracial and/or Multiethnic group). Therefore, Federal agencies should use this approach in conjunction with another approach (like Approaches 1 or 2) to comply with the requirement to report as much information on race and ethnicity as possible, including data for respondents who reported more than one race and/or ethnicity category. The percentages in this approach will sum to 100 percent because the response categories are mutually exclusive. The following illustrates the tabulation categories used for this approach:

• American Indian or Alaska Native alone

• Asian alone

• Black or African American alone

• Hispanic or Latino alone

• Middle Eastern or North African alone

• Native Hawaiian or Pacific Islander alone

• White alone

• Multiracial and/or Multiethnic

With respect to tabulation and presentation, regardless of approach, the seven minimum race and ethnicity categories shall be treated co-equally except if a program or collection effort focuses on a specific racial or ethnic group, and as approved by OIRA. When tabulating and presenting data, agencies must use a consistent approach across all categories within a single table. If categories must be combined in order to reach sample size thresholds for reporting, those combinations should be labeled with the list of combined categories rather than with “other.”

5. Use of the Standards for Record Keeping and Reporting

a. Statistical Reporting

These standards shall be used for all Federally sponsored statistical data collections that include data on race and ethnicity. Any variation must be specifically authorized by OIRA through the PRA information collection approval process. In those cases where the data collection is not subject to the information collection clearance process, a direct request for a variance must be made to OIRA.

b. General Program Administrative and Grant Reporting

These standards shall be used for all Federal administrative reporting or record keeping requirements that include data on race and ethnicity. Agencies that cannot follow these standards must request a variance from OIRA. Variances will be considered if the agency can demonstrate that it is not reasonable for the primary reporter to determine race and ethnicity in terms of the specified minimum categories, or that the specific program is directed to only one or a limited number of races and ethnicities.

c. Civil Rights and Other Compliance Reporting

These standards must be used by all Federal agencies for civil rights and other compliance reporting from the public and private sectors and all levels of government. Any variation requiring less detailed data or data which cannot be aggregated into the minimum categories must be specifically approved by OIRA.

6. Effective Date

The provisions of these standards are effective March 28, 2024 for all new record keeping or reporting requirements that include race and ethnicity data. All existing record keeping or reporting requirements should be made consistent with these standards through a non-substantive change request as soon as possible, or at the time they are submitted for extension or revision to OIRA under the PRA, but not later than March 28, 2029.

Within 18 months of publication of these standards, the Chief Financial Officers Act Agencies and the U.S. Equal Employment Opportunity Commission ⁴⁷ must submit to OMB, through their agency Statistical Officials and in coordination with their agency's Chief Data Officer, Evaluation Officer,⁴⁸ Senior Agency Officials for Privacy, and other agency officials as appropriate, an Action Plan on Race and Ethnicity Data describing how they intend to bring their agency collections and publications into compliance with these standards by March 28, 2029. Agencies must make these plans available to the public through their websites at the time of submission to OMB.

⁴⁷ The U.S. Equal Employment Opportunity Commission does not currently have a Statistical Official and should submit their Action Plan through their Chief Data Officer.

⁴⁸ These three agency officials make up the Data Governance Bodies established under OMB M-19-23, Phase 1 Implementation of the Foundations for Evidence-Based Policymaking Act of 2018: Learning Agendas, Personnel, and Planning Guidance (July 10, 2019), available at https://www.whitehouse.gov/wp-content/uploads/2019/07/m-19-23.pdf.

[FR Doc. 2024-06469 Filed 3-28-24; 8:45 am]

BILLING CODE 3110-01-P